AGENCY FOR INTERNATIONAL DEVELOPMENT

Board for International Food and Agricultural Development One Hundred and Thirty-Ninth Meeting; Notice of Meeting

Pursuant to the Federal Advisory Committee Act, notice is hereby given of the one hundred and thirty-ninth meeting of the Board for International Food and Agricultural Development (BIFAD). The meeting will be held from 8 a.m. to 1 p.m. on October 6, 2003 in the ground floor meeting room of the National Association of State Universities & Land Grant Colleges (NASULGC), at 1307 New York Avenue, NW., Washington, DC.

The BIFAD at this meeting will hear a report and act on recommendations from SPARE (Strategic Partnership for Agricultural Research & Education, a BIFAD committee), receive an update on the implementation of the BIFAD Long-Term Training initiative; and will consider the report on USAID-university relationships (a BIFAD-commissioned study).

The meeting is free and open to the public. Those wishing to attend the meeting or obtain additional information about BIFAD should contact Curtis Nissly, the Designated Federal Officer for BIFAD. Write him in care of the U.S. Agency for International Development, Ronald Reagan Building, Office of Agriculture and Food Security, 1300 Pennsylvania Avenue, NW., Room 2.11-085, Washington, DC 20523-2110 or telephone him at (202) 712-1064 or fax (202) 216-3010.

Dated: August 28, 2003.
Roger Sloan,
EGAT/AG/ARPG, Director.

[FR Doc. 03-22394 Filed 9-2-03; 8:45 am]

BILLING CODE 6116-01-P